DEPARTMENT OF ENERGY

Federal Energy Regulatory Commission

Notice of Commission Staff Attendance at Midwest ISO Meetings

January 8, 2009.

The Federal Energy Regulatory Commission hereby gives notice that members of the Commission and Commission staff may attend the following Midwest ISO-related meetings in 2009:

• Advisory Committee (10 a.m.-3 p.m., ET).

• January 14.

• February 18.

• March 18.

• May 20.

• June 17.

• July 15.

• August 19 (St. Paul Hotel, 350 Market St., St. Paul, MN).

• September 16.

• October 14.

• November 18.

• December 2.

• Board of Directors (8:30 a.m.-10 a.m., ET).

• January 15.

• March 19.

• April 16 (Crowne Plaza Hotel, 123 West Louisiana St., Indianapolis, IN).

• June 18.

• August 20 (St. Paul Hotel, 350 Market St., St. Paul, MN).

• October 15.

• December 3.

• Board of Directors Markets Committee (8 a.m.-10 a.m., ET).

• January 14.

• March 18.

• April 15 (Crowne Plaza Hotel, 123 West Louisiana St., Indianapolis, IN).

• May 20.

• June 17.

• July 15.

• August 19 (St. Paul Hotel, 350 Market St., St. Paul, MN).

• September 16.

• October 14.

• November 18.

• December 2.

• Midwest ISO Informational Forum (3 p.m.-5 p.m., ET).

• January 13.

• February 17.

• March 17.

• April 15.

• May 19.

• June 16.

• July 14.

• August 18 (St. Paul Hotel, 350 Market St., St. Paul, MN).

• September 15.

• October 13.

• November 17.

• December 15.

• Midwest ISO Market Subcommittee (9 a.m.-5 p.m., ET).

• February 3.

• March 3.

• April 7.

• May 5.

• June 2.

• July 7.

• August 4.

• September 1.

• October 6.

• November 3.

• December 1.

• Fifth Annual Midwest ISO Stakeholders' Meeting, April 15 (10 a.m.-5 p.m., ET) (Crowne Plaza Hotel, 123 West Louisiana St., Indianapolis, IN)

Except as noted, all of the meetings above will be held at: Midwest ISO Headquarters, 720 City Center Drive, Carmel, IN 46032.

The above-referenced meetings are open to the public. Further information may be found at http://www.midwestiso.org.

The discussions at each of the meetings described above may address matters at issue in the following proceedings:

Docket No. EL02-111, Midwest Independent Transmission System Operator, Inc.

Docket No. EL03-212, Ameren Services Company.

Docket No. ER02-488, Midwest Independent Transmission System Operator, Inc.

Docket No. ER04-375, Midwest Independent Transmission System Operator, Inc., et al.

Docket Nos. ER04-458, Midwest Independent Transmission System Operator, Inc.

Docket Nos. ER04-691, EL04-104 and ER04-106, Midwest Independent Transmission System Operator, Inc., et al.

Docket Nos. ER05-6, Midwest Independent Transmission System Operator, Inc., et al.

Docket No. ER05-636, Midwest Independent Transmission System Operator, Inc.

Docket No. ER05-752, Midwest Independent Transmission System Operator, Inc. and PJM Interconnection, L.L.C.

Docket No. ER05-1047, Midwest Independent Transmission System Operator, Inc.

Docket No. ER05-1048, Midwest Independent Transmission System Operator, Inc.

Docket Nos. ER05-1083, Midwest Independent Transmission System Operator, Inc., et al.

Docket Nos. ER05-1085, Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Public Service Co. v. Midwest Independent Transmission System Operator, Inc. and PJM Interconnection, L.L.C.

Docket No. EL05-128, Quest Energy, L.L.C. v. Midwest Independent Transmission System Operator, Inc.

Docket Nos. RM05-17 and RM05-25, Preventing Undue Discrimination and Preference in Transmission Service.

Docket Nos. EC06-4 and ER06-20, E.ON U.S. LLC, et al.

Docket Nos. ER06-18, Midwest Independent Transmission System Operator, Inc.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-356, Midwest Independent Transmission System Operator, Inc.

Docket No. ER06-532, Midwest Independent Transmission System Operator, Inc.

Docket No. ER06-731, Independent Market Monitor for the Midwest Independent Transmission System Operator, Inc.

Docket No. ER06-866, Midwest Independent Transmission System Operator, Inc.

Docket No. ER06-881, Midwest Independent Transmission System Operator, Inc.

Docket No. ER06-1420, Midwest Independent Transmission System Operator, Inc.

Docket No. ER06-1536, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Docket No. RM06-16, Mandatory Reliability Standards for Bulk-Power System.

Docket No. ER07-478, Midwest Independent Transmission System Operator, Inc.

Docket No. ER07-53, Midwest Independent Transmission System Operator, Inc.

Docket No. ER07-532, Midwest Independent Transmission System Operator, Inc.

Docket No. ER07-580, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1375, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, and EL07-92, Ameren Services Co., et al. v. Midwest Independent Transmission System Operator, Inc., et al.

Docket No. EL07-100, E.ON U.S. LLC v. Midwest Independent Transmission System Operator, Inc.

Docket Nos. RR07-2, Delegation Agreement Between the North American Electric Reliability Corporation and Midwest Reliability Organization, et al.

Docket No. AD07-12, Reliability Standard Compliance and Enforcement in Regions with Independent System Operators and Regional Transmission Organizations.

Docket No. OA07-57, Midwest Independent Transmission System Operator, Inc.

Docket Nos. RM07-19 and AD07-7, Wholesale Competition in Regions with Organized Electric Markets.

Docket No. ER08-15, Midwest ISO Transmission Owners.

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-320, Midwest Independent Transmission System Operator, Inc.

Docket No. ER08-370, Midwest Independent Transmission System Operator, Inc.

Docket No. ER08-394, Midwest Independent Transmission System Operator, Inc.

Docket No. ER08-404, Midwest Independent Transmission System Operator, Inc.

Docket No. ER08-637, Midwest Independent Transmission System Operator, Inc.

Docket No. ER08-925, Midwest Independent Transmission System Operator, Inc.

Docket No. ER08-1043, Midwest Independent Transmission System Operator, Inc.

Docket No. ER08-1074, Midwest Independent Transmission System Operator, Inc.

Docket No. ER08-1169, Midwest Independent Transmission System Operator, Inc.

Docket No. ER08-1244, Midwest Independent Transmission System Operator, Inc.

Docket No. ER08-1252, Midwest Independent Transmission System Operator, Inc.

Docket No. ER08-1285, Midwest Independent Transmission System Operator, Inc.

Docket No. ER08-1309, Midwest Independent Transmission System Operator, Inc.

Docket No. ER08-1370, Midwest Independent Transmission System Operator, Inc.

Docket No. ER08-1399, Midwest Independent Transmission System Operator, Inc.

Docket No. ER08-1400, Midwest Independent Transmission System Operator, Inc.

Docket No. ER08-1401, Midwest Independent Transmission System Operator, Inc.

Docket No. ER08-1404, Midwest Independent Transmission System Operator, Inc.

Docket No. ER08-1435, Midwest Independent Transmission System Operator, Inc.

Docket No. ER08-1485, Midwest Independent Transmission System Operator, Inc.

Docket No. ER08-1486, Midwest Independent Transmission System Operator, Inc.

Docket No. ER08-1505, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

Docket No. OA08-106, Midwest Independent Transmission System Operator, Inc.

Docket No. EL09-9, Wabash Valley Power Assoc, Inc. v. Midwest Independent Transmission System Operator, Inc.

Docket No. EL09-10, Ameren Services Co. and Northern Indiana Public Service Co. v. Midwest Independent Transmission System Operator, Inc.

Docket No. ER09-59, American Transmission Company, Inc.

Docket No. ER09-66, Midwest Independent Transmission System Operator, Inc.

Docket No. ER09-83, Midwest Independent Transmission System Operator, Inc.

Docket No. ER09-91, Midwest Independent Transmission System Operator, Inc.

Docket No. ER09-108, Midwest Independent Transmission System Operator, Inc.

Docket No. ER09-117, Midwest Independent Transmission System Operator, Inc.

Docket No. ER09-123, Midwest Independent Transmission System Operator, Inc.

Docket No. ER09-160, Midwest Independent Transmission System Operator, Inc.

Docket No. ER09-180, Midwest Independent Transmission System Operator, Inc.

Docket No. ER09-245, Midwest Independent Transmission System Operator, Inc.

Docket No. ER09-266, Midwest Independent Transmission System Operator, Inc.

Docket No. ER09-267, Midwest Independent Transmission System Operator, Inc.

Docket No. ER09-403, Midwest Independent Transmission System Operator, Inc.

Docket No. OA09-7, Midwest Independent Transmission System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Kimberly D. Bose,
Secretary.

[FR Doc. E9-705 Filed 1-14-09; 8:45 am]

BILLING CODE 6717-01-P